DEPARTMENT OF ENERGY

Federal Energy Regulatory Commission

Combined Notice of Filings #1

Take notice that the Commission received the following electric rate filings:

Docket Numbers: ER10-2398-010; ER10-2399-010; ER10-2406-011; ER10-2409-010; ER10-2410-010; ER10-2411-011; ER10-2412-011; ER10-2414-013; ER11-2935-012; ER13-1816-013; ER14-1933-010; ER16-1724-007; ER17-1315-008; ER17-2087-006; ER18-1189-005; ER19-1281-002; ER19-1282-003.

Applicants: Blackstone Wind Farm, LLC, Blackstone Wind Farm II LLC, Headwaters Wind Farm LLC, High Trail Wind Farm, LLC, Hog Creek Wind Project, LLC, Lexington Chenoa Wind Farm LLC, Meadow Lake Wind Farm LLC, Meadow Lake Wind Farm II LLC, Meadow Lake Wind Farm III LLC, Meadow Lake Wind Farm IV LLC, Meadow Lake Wind Farm V LLC, Meadow Lake Wind Farm VI LLC, Old Trail Wind Farm, LLC, Paulding Wind Farm II LLC, Paulding Wind Farm III LLC, Paulding Wind Farm IV LLC, Sustaining Power Solutions LLC.

Description: Notice of Non-Material Change in Status of Blackstone Wind Farm, LLC, et al.

Filed Date: 5/10/21.

Accession Number: 20210510-5222.

Comments Due: 5 p.m. ET 6/1/21.

Docket Numbers: ER10-2718-037; ER10-2719-038.

Applicants: Cogen Technologies Linden Venture, L.P., East Coast Power Linden Holding, L.L.C.

Description: Notice of Non-Material Change in Status of Cogen Technologies Linden Venture, L.P., et al.

Filed Date: 5/10/21.

Accession Number: 20210510-5216.

Comments Due: 5 p.m. ET 6/1/21.

Docket Numbers: ER11-4267-013; ER16-2169-005; ER16-2364-005; ER17-692-004.

Applicants: Algonquin Energy Services Inc., Algonquin SKIC 20 Solar, LLC, Algonquin SKIC 10 Solar, LLC, Algonquin Power Sanger LLC.

Description: Notice of Non-Material Change in Status of Algonquin Energy Services Inc., et al.

Filed Date: 5/7/21.

Accession Number: 20210507-5237.

Comments Due: 5 p.m. ET 5/28/21.

Docket Numbers: ER20-1708-002.

Applicants: California State University Channel Islands Site Authority.

Description: Compliance filing: Approved Offer of Settlement For RMR (ER20-1708) to be effective 5/1/2020.

Filed Date: 5/11/21.

Accession Number: 20210511-5043.

Comments Due: 5 p.m. ET 6/1/21.

Docket Numbers: ER21-1373-001; ER21-1376-001; ER21-1369-000; ER21-1371-000; ER21-1368-000.

Applicants: ES 1A Group 2 Opco, LLC, ES 1A Group 3 Opco, LLC, Edwards Sanborn Storage I, LLC, Edwards Sanborn Storage II, LLC, Valley Center ESS, LLC.

Description: Supplement to the March 12, 2021 ES 1A Group 2 Opco, LLC, et al. tariff filings.

Filed Date: 5/10/21.

Accession Number: 20210510-5212.

Comments Due: 5 p.m. ET 5/24/21.

Docket Numbers: ER21-1653-000.

Applicants: Deer Creek Solar I LLC.

Description: Supplement to the April 9, 2021 Deer Creek Solar I LLC tariff filing.

Filed Date: 5/10/21.

Accession Number: 20210510-5215.

Comments Due: 5 p.m. ET 5/20/21.

Docket Numbers: ER21-1877-000.

Applicants: Midcontinent Independent System Operator, Inc., Michigan Electric Transmission Company, LLC.

Description: § 205(d) Rate Filing: 2021-05-11_SA 3657 METC-Freshwater Solar E&P (J1379) to be effective 4/20/2021.

Filed Date: 5/11/21.

Accession Number: 20210511-5033.

Comments Due: 5 p.m. ET 6/1/21.

Docket Numbers: ER21-1878-000.

Applicants: Sundance Wind Project Holdings LLC.

Description: Tariff Cancellation: Notice of Cancellation of Market-Based Rate Tariff to be effective 7/11/2021.

Filed Date: 5/11/21.

Accession Number: 20210511-5051.

Comments Due: 5 p.m. ET 6/1/21.

Docket Numbers: ER21-1879-000.

Applicants: Farmington Solar, LLC.

Description: Baseline eTariff Filing: Farmington Solar, LLC Application for MBR Authority to be effective 5/12/2021.

Filed Date: 5/11/21.

Accession Number: 20210511-5054.

Comments Due: 5 p.m. ET 6/1/21.

Docket Numbers: ER21-1880-000.

Applicants: Niyol Wind, LLC.

Description: Baseline eTariff Filing: Niyol Wind, LLC Application for MBR Authority to be effective 7/11/2021.

Filed Date: 5/11/21.

Accession Number: 20210511-5059.

Comments Due: 5 p.m. ET 6/1/21.

Docket Numbers: ER21-1881-000.

Applicants: Grand Tower Energy Center, LLC.

Description: Tariff Cancellation: Notice of Cancellation of Reactive Tariff to be effective 5/12/2021.

Filed Date: 5/11/21.

Accession Number: 20210511-5072.

Comments Due: 5 p.m. ET 6/1/21.

Docket Numbers: ER21-1882-000.

Applicants: Duke Energy Carolinas, LLC.

Description: § 205(d) Rate Filing: DEC—Southern Power—NCEMC Dynamic Power Agreement RS-570 to be effective 7/11/2021.

Filed Date: 5/11/21.

Accession Number: 20210511-5078.

Comments Due: 5 p.m. ET 6/1/21.

Docket Numbers: ER21-1883-000.

Applicants: ISO New England Inc.

Description: § 205(d) Rate Filing: True-Up of Section III.13.7 to Reflect Only Commission-Accepted Language to be effective 4/1/2021.

Filed Date: 5/11/21.

Accession Number: 20210511-5102.

Comments Due: 5 p.m. ET 6/1/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 11, 2021.
Debbie-Anne A. Reese,
Deputy Secretary.

[FR Doc. 2021-10321 Filed 5-14-21; 8:45 am]

BILLING CODE 6717-01-P